DEPARTMENT OF COMMERCE

International Trade Administration

[A-533-810]

Stainless Steel Bar From India; Initiation of antidumping new shipper review

AGENCY: Import Administration, International Trade Administration, Department of Commerce.

ACTION: Notice of Initiation of Antidumping New Shipper Review.

SUMMARY: The Department of Commerce has received a request to conduct a new shipper review of the antidumping duty order on stainless steel bar from India. In accordance with section 751(a)(2)(B) of the Tariff Act and 19 CFR 351.214(d), we are initiating this review.

EFFECTIVE DATE: April 7, 2000.

FOR FURTHER INFORMATION CONTACT: Blanche Ziv or Rosa Jeong, Import Administration, International Trade Administration, U.S. Department of Commerce, 14th Street and Constitution Avenue, N.W., Washington, D.C. 20230; telephone (202) 482-4207 or (202) 482-3853, respectively.

Applicable Statute and Regulations

Unless otherwise indicated, all citations to the Tariff Act of 1930, as amended (“the Act”), are references to the provisions effective January 1, 1995, the effective date of the amendments made to the Act by the Uruguay Round Agreements Act. In addition, all references to the Department of Commerce's (“the Department's”) regulations are to 19 CFR Part 351 (April 1999).

SUPPLEMENTARY INFORMATION:

Background

On February 18, 2000, the Department received a request from Atlas Stainless Corporation (“Atlas”), pursuant to section 751(a)(2)(B) of the Act, and in accordance with 19 CFR 351.214(b), for a new shipper review of the antidumping duty order on stainless steel bar from India. This order has a February anniversary month. On March 27, 2000, pursuant to the Department's request, Atlas submitted supplemental information regarding the required documentation pursuant to section 351.214(a)(2) of the Department's regulations. Accordingly, we are initiating a new shipper review for Atlas as requested. The period of review is February 1, 1998 through January 31, 1999.

Initiation of Review

In accordance with 19 CFR 351.214(b)(2), Atlas provided certification that it did not export subject merchandise to the United States during the period of investigation; certification that, since the investigation was initiated, it has never been affiliated with any exporter or producer who exported the subject merchandise to the United States during the period of investigation, including those not individually examined during the investigation; documentation establishing: (i) The date on which its stainless steel bar was first entered, or withdrawn from warehouse, for consumption, or if the exporter or producer could not establish the date of first entry, the date on which it first shipped the subject merchandise for export to the United States; (ii) the volume of that and subsequent shipments; and (iii) the date of the first sale to an unaffiliated customer in the United States. Therefore, in accordance with section 751(a)(2)(B)(ii) of the Act and 19 CFR 351.214(d)(1), we are initiating a new shipper review of the antidumping duty order on stainless steel bar from India. We intend to issue the final results of this review not later than 180 days after the date of publication of this notice in the Federal Register. All provisions of 19 CFR 351.214 will apply to Atlas throughout the duration of this new shipper review.

We will instruct the Customs Service to allow, at the option of the importer, the posting of a bond or security in lieu of a cash deposit, until the completion of the review, for each entry of the merchandise exported by the above listed company, in accordance with 19 CFR 351.214(e). Interested parties must submit applications for disclosure under administrative protective orders in accordance with 19 CFR 351.305 and 351.306.

This initiation and this notice are in accordance with section 751(a) of the Act.

Dated: March 31, 2000.
Richard W. Moreland,
Deputy Assistant Secretary for Import Administration.

[FR Doc. 00-8701 Filed 4-6-00; 8:45 am]

BILLING CODE 3510-DS-P